DEPARTMENT OF THE TREASURY

Office of the Comptroller of the Currency

Office of Thrift Supervision

FEDERAL RESERVE SYSTEM

FEDERAL DEPOSIT INSURANCE CORPORATION

Agency Information Collection Activities: Submission for OMB Review; Joint Comment Request

AGENCIES: Office of the Comptroller of the Currency (OCC), Treasury; Board of Governors of the Federal Reserve System (Board); Federal Deposit Insurance Corporation (FDIC); and Office of Thrift Supervision (OTS), Treasury.

ACTION: Notice of information collection to be submitted to OMB for review and approval under the Paperwork Reduction Act of 1995.

SUMMARY: In accordance with the requirements of the Paperwork Reduction Act (PRA) of 1995 (44 U.S.C. chapter 35), the OCC, the Board, the FDIC, and the OTS (the “agencies”) may not conduct or sponsor, and the respondent is not required to respond to, an information collection unless it displays a currently valid Office of Management and Budget (OMB) control number. On October 22, 2010, the agencies, under the auspices of the Federal Financial Institutions Examination Council (FFIEC), requested public comment for 60 days on a proposal to extend with revision the Advanced Capital Adequacy Framework Regulatory Reporting Requirements (FFIEC 101), which is a currently approved collection of information for each agency (75 FR 65402). No comments were received on the proposal. The agencies hereby give notice of their plan to submit to the OMB requests for approval of the FFIEC 101.

DATES: Comments must be submitted on or before February 28, 2011.

ADDRESSES: Interested parties are invited to submit written comments to any or all of the agencies. All comments, which should refer to the OMB control number(s), will be shared among the agencies.

OCC: You should direct all written comments to: Communications Division, Office of the Comptroller of the Currency, Mailstop 2-3, Attention: 1557-0239, 250 E Street, SW., Washington, DC 20219. In addition, comments may be sent by fax to (202) 874-5274, or by electronic mail to regs.comments@occ.treas.gov. You may personally inspect and photocopy comments at the OCC, 250 E Street, SW., Washington, DC 20219. For security reasons, the OCC requires that visitors make an appointment to inspect comments. You may do so by calling (202) 874-4700. Upon arrival, visitors will be required to present valid government-issued photo identification and to submit to security screening in order to inspect and photocopy comments.

Board: You may submit comments, which should refer to “FFIEC 101,” by any of the following methods:

• Agency Web Site: http://www.federalreserve.gov. Follow the instructions for submitting comments on the http://www.federalreserve.gov/generalinfo/foia/ProposedRegs.cfm.

• Federal eRulemaking Portal: http://www.regulations.gov. Follow the instructions for submitting comments.

• E-mail: regs.comments@federalreserve.gov. Include the reporting form number in the subject line of the message.

• FAX: (202) 452-3819 or (202) 452-3102.

• Mail: Jennifer J. Johnson, Secretary, Board of Governors of the Federal Reserve System, 20th Street and Constitution Avenue, NW., Washington, DC 20551.

All public comments are available from the Board's Web site at http://www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.) between 9 a.m. and 5 p.m. on weekdays.

FDIC: You may submit comments, which should refer to “FFIEC 101, 3064-0159,” by any of the following methods:

• Agency Web Site: http://www.fdic.gov/regulations/laws/federal/propose.html. Follow the instructions for submitting comments on the FDIC Web site.

• Federal eRulemaking Portal: http://www.regulations.gov. Follow the instructions for submitting comments.

• E-mail: comments@FDIC.gov. Include “FFIEC 101, 3064-0159” in the subject line of the message.

• Mail: Leneta G. Gregorie, (202) 898-3719, Counsel, Attn: Comments, Room F-1064, Federal Deposit Insurance Corporation, 550 17th Street, NW., Washington, DC 20429.

• Hand Delivery: Comments may be hand delivered to the guard station at the rear of the 550 17th Street Building (located on F Street) on business days between 7 a.m. and 5 p.m.

Public Inspection: All comments received will be posted without change to http://www.fdic.gov/regulations/laws/federal/propose.html including any personal information provided. Comments may be inspected at the FDIC Public Information Center, Room E-1002, 3501 Fairfax Drive, Arlington, VA 22226, between 9 a.m. and 5 p.m. on business days.

OTS: You may submit comments, identified by “1550-0120 (FFIEC 101),” by any of the following methods:

• Federal eRulemaking Portal: http://www.regulations.gov. Follow the instructions for submitting comments.

• E-mail address: infocollection.comments@ots.treas.gov. Please include “1550-0120 (FFIEC 101)” in the subject line of the message and include your name and telephone number in the message.

• Fax: (202) 906-6518.

• Mail: Information Collection Comments, Chief Counsel's Office, Office of Thrift Supervision, 1700 G Street, NW., Washington, DC 20552, Attention: “1550-0120 (FFIEC 101).”

• Hand Delivery/Courier: Guard's Desk, East Lobby Entrance, 1700 G Street, NW., from 9 a.m. to 4 p.m. on business days, Attention: Information Collection Comments, Chief Counsel's Office, Attention: “1550-0120 (FFIEC 101).”

Instructions: All submissions received must include the agency name and OMB Control Number for this information collection. All comments received will be posted without change to the OTS Internet Site at http://www.ots.treas.gov/pagehtml.cfm?catNumber=67&an=1, including any personal information provided.

Docket: For access to the docket to read background documents or comments received, go to http://www.ots.treas.gov/pagehtml.cfm?catNumber=67&an=1.

In addition, you may inspect comments at the Public Reading Room, 1700 G Street, NW., by appointment. To make an appointment for access, call (202) 906-5922, send an e-mail to public.info@ots.treas.gov, or send a facsimile transmission to (202) 906-7755. (Prior notice identifying the materials you will be requesting will assist us in serving you.) We schedule appointments on business days between 10 a.m. and 4 p.m. In most cases, appointments will be available the next business day following the date we receive a request.

Additionally, commenters may send a copy of their comments to the OMB desk officer for the agencies by mail to the Office of Information and Regulatory Affairs, U.S. Office of Management and Budget, New Executive Office Building, Room 10235, 725 17th Street, NW., Washington, DC 20503, or by fax to (202) 395-6974.

FOR FURTHER INFORMATION CONTACT: For further information about the revisions discussed in this notice, please contact any of the agency clearance officers whose names appear below. In addition, copies of the FFIEC 101 can be obtained at the FFIEC's Web site (http://www.ffiec.gov/ffiec_report_forms.htm).

OCC: Mary Gottlieb, OCC Clearance Officer, (202) 874-5090, Legislative and Regulatory Activities Division, Office of the Comptroller of the Currency, 250 E Street, SW., Washington, DC 20219.

Board: Cynthia Ayouch, Acting Federal Reserve Board Clearance Officer, (202) 452-3829, Division of Research and Statistics, Board of Governors of the Federal Reserve System, 20th and C Streets, NW., Washington, DC 20551. Telecommunications Device for the Deaf (TDD) users may call (202) 263-4869.

FDIC: Leneta G. Gregorie, Counsel, (202) 898-3719, Legal Division, Federal Deposit Insurance Corporation, 550 17th Street, NW., Washington, DC 20429.

OTS: Ira L. Mills, OTS Clearance Officer, at Ira.Mills@ots.treas.gov, (202) 906-6531, or facsimile number (202) 906-6518, Regulations and Legislation Division, Chief Counsel's Office, Office of Thrift Supervision, 1700 G Street, NW., Washington, DC 20552.

SUPPLEMENTARY INFORMATION: The agencies are proposing to revise and extend for three years the FFIEC 101, which is a currently approved collection of information for each agency.

Report Title: Advanced Capital Adequacy Framework Regulatory Reporting Requirements.

Form Number: FFIEC 101.

Frequency of Response: Quarterly.

Affected Public: Business or other for-profit.

OCC

OMB Number: 1557-0239.

Estimated Number of Respondents: 52 national banks.

Estimated Time per Response: 625 hours.

Estimated Total Annual Burden: 130,000 hours.

Board

OMB Number: 7100-0319.

Estimated Number of Respondents: 6 state member banks and 21 bank holding companies.

Estimated Time per Response: 625 hours.

Estimated Total Annual Burden: 52,500 hours.

FDIC

OMB Number: 3064-0159.

Estimated Number of Respondents: 9 state nonmember banks.

Estimated Time per Response: 625 hours.

Estimated Total Annual Burden: 22,500 hours.

OTS

OMB Number: 1550-0120.

Estimated Number of Respondents: 3 savings associations.

Estimated Time per Response: 625 hours.

Estimated Total Annual Burden: 7,500 hours.

General Description of Reports

This information collection is mandatory for banks ¹ using the Advanced Capital Adequacy Framework: 12 U.S.C. 161 (for national banks), 12 U.S.C. 324 and 12 U.S.C. 1844(c) (for state member banks and BHCs respectively), 12 U.S.C. 1817 (for insured state nonmember commercial and savings banks), and 12 U.S.C. 1464 (for savings associations). This information collection will be given confidential treatment (5 U.S.C. 552(b)(4)) except for selected data items (Schedules A and B, and data items 1 and 2 of the operational risk Schedule S) that will be released for reporting periods after an institution has successfully completed its parallel run period and is qualified to use the advanced approaches for regulatory capital purposes. The agencies will not publicly release information submitted during an entity's parallel run period.

¹ For simplicity, and unless otherwise indicated, this notice uses the term “bank” to include banks, savings associations, and bank holding companies (BHCs). The terms “bank holding company” and “BHC” refer only to bank holding companies regulated by the Board and do not include savings and loan holding companies regulated by the OTS. For a detailed description of the institutions covered by this notice, refer to Part I, Section 1, of the final rule entitled Risk-Based Capital Standards: Advanced Capital Adequacy Framework (72 FR 69397, December 7, 2007).

Abstract

Each bank that qualifies for and applies the advanced internal ratings-based approach to calculate regulatory credit risk capital and the advanced measurement approaches to calculate regulatory operational risk capital, as described in the final rule implementing the Advanced Capital Adequacy Framework (72 FR 69288, December 7, 2007, referred to hereafter as the final rule), is required to file quarterly regulatory data. The agencies use these data to assess and monitor the levels and components of each reporting entity's risk-based capital requirements and the adequacy of the entity's capital under the Advanced Capital Adequacy Framework; to evaluate the impact and competitive implications of the Advanced Capital Adequacy Framework on individual reporting entities and on an industry-wide basis; and to supplement on-site examination processes. The reporting schedules also assist banks in understanding expectations around the system development necessary for implementation and validation of the Advanced Capital Adequacy Framework. Submitted data that are released publicly following a reporting entity's parallel run period will also provide other interested parties with information about banks' risk-based capital.

Current Actions

The agencies propose to implement revisions to certain portions of the FFIEC 101 report principally to align the reporting of the amount of qualifying restricted core capital elements (other than cumulative perpetual preferred stock) held by bank holding companies and qualifying mandatory convertible preferred securities held by internationally active bank holding companies to that of Schedule HC-R of the FR Y-9C ² by separately including both capital elements in Schedule A of the FFIEC 101; to require all banks, bank holding companies, and savings associations to report capital numerator information on a common Schedule A of the FFIEC 101 (Schedule A, Part 2 for savings associations will be eliminated); and to revise the way equity exposures are reported in a reformatted Schedule R of the FFIEC 101. The agencies would implement the proposed changes beginning with the March 31, 2011, report date. These proposed changes are described below.

² Consolidated Financial Statements for Bank Holding Companies, OMB Number: 7100-0128.

Discussion of Proposed Revisions to the FFIEC 101

Reporting of information about the numerator of a bank holding company's risk-based capital ratios. For bank holding companies subject to these reporting requirements, the agencies propose to recaption line item 6.b of Schedule A, Part 1 of the FFIEC 101 report and to add line item 6.c. Line item 6.b is currently intended to capture two components of capital that are reported separately on Schedule HC-R of the FR Y-9C: The amount of qualifying restricted core capital elements (other than cumulative perpetual preferred stock) held by bank holding companies (as reported in item 6.b of Schedule HC-R) and qualifying mandatory convertible preferred securities held by internationally active bank holding companies (as reported in item 6.c of Schedule HC-R). The agencies propose to align the reporting of these capital elements to that of Schedule HC-R of the FR Y-9C by separately including both capital elements in the FFIEC 101. These two capital elements would replace the current item 6.b and would appear, as they do on Schedule HC-R in the FR Y-9C, as items 6.b and 6.c of Schedule A, Part 1, respectively. Reporting instructions for the FFIEC 101 would be revised accordingly. The change in reporting would apply only to bank holding companies.

Reporting of information about the numerator of a savings association's risk-based capital ratios. For the purposes of simplicity and comparability of reporting financial information among banks and savings associations under the Advanced Capital Adequacy Framework, the Agencies propose to delete Part 2 of Schedule A for savings associations. Instead, all banks, bank holding companies, and savings associations reporting under the Advanced Capital Adequacy Framework would report on the same Schedule A form (see http://www.ffiec.gov/forms101.htm). Reporting instructions for the FFIEC 101 would be revised accordingly.

Reporting of information on equity exposures. Banks subject to these reporting requirements currently provide information about equity exposure amounts and the risk-weighted asset amount of these exposures in Schedule R of the FFIEC 101. This schedule currently contains 22 line items (exposure categories, subtotals, and totals) and two columns (exposure and risk-weighted asset amounts) in which data are reported. A number of the line items listed on the schedule only apply to certain approaches contained within the final rule for calculating risk-weighted asset amounts for equity exposures. The agencies propose to reformat Schedule R to clarify what line items need to be reported based on which of the three approaches the bank uses to calculate risk-weighted asset amounts for its equity exposures: The simple risk weight approach (SRWA), the full internal models approach (full IMA), or the IMA applied to only publicly traded equity exposures (publicly traded or partial IMA).

The reformatted version of Schedule R does not alter any of the existing line items in the current schedule. More specifically, neither the exposure categories nor the number of equity exposure items completed by banks using a given approach would change as a result of this proposal. Rather, the proposal is to expand the number of columns shown on the schedule from two to six to allow for reporting of a distinct set of exposure and risk-weighted asset information for banks using the SRWA, a distinct set of exposure and risk-weighted asset information for banks using the full IMA, and a distinct set of exposure and risk-weighted asset information for banks using the partial IMA. Each set of exposure and risk-weighted asset columns would appear with the heading of the applicable final rule approach used by the bank and only those exposure categories (including subtotals and totals) applicable to a given approach would appear within each columnar section of the reformatted schedule (see http://www.ffiec.gov/forms101.htm). Reporting instructions for the FFIEC 101 would be revised accordingly.

Request for Comment

Public comment is requested on all aspects of this joint notice. Comments are invited on:

(a) Whether the proposed revisions to the collection of information that are the subject of this notice are necessary for the proper performance of the agencies' functions, including whether the information has practical utility;

(b) The accuracy of the agencies' estimates of the burden of the information collection as they are proposed to be revised, including the validity of the methodology and assumptions used;

(c) Ways to enhance the quality, utility, and clarity of the information collected;

(d) Ways to minimize the burden of information collections on respondents, including through the use of automated collection techniques or other forms of information technology; and

(e) Estimates of capital or start up costs and costs of operation, maintenance, and purchase of services to provide information.

Comments submitted in response to this joint notice will be shared among the agencies. All comments will become a matter of public record.

Dated: January 14, 2011.
Michele Meyer,
Assistant Director, Legislative and Regulatory Activities Division, Office of the Comptroller of the Currency.
Board of Governors of the Federal Reserve System, January 25, 2011.
Jennifer J. Johnson,
Secretary of the Board.
Dated at Washington, DC, this 25th day of January 2011.
Federal Deposit Insurance Corporation.
Robert E. Feldman,
Executive Secretary.
Dated: January 24, 2011.
Ira L. Mills,
Paperwork Clearance Officer, Office of Chief Counsel, Office of Thrift Supervision.

[FR Doc. 2011-1945 Filed 1-27-11; 8:45 am]

BILLING CODE 4810-33-P 6210-01-P 6714-01-P 6720-01-P